DEPARTMENT OF HOMELAND SECURITY

Coast Guard

[Docket No. USCG-2010-0163]

Commercial Fishing Industry Vessel Safety Advisory Committee; Vacancies

AGENCY: Coast Guard, DHS.

ACTION: Request for applications.

SUMMARY: The Coast Guard seeks applications for membership on the Commercial Fishing Industry Vessel Safety Advisory Committee (CFIVSAC). The CFIVSAC provides advice and makes recommendations to the Coast Guard on matters relating to the safe operation of commercial fishing industry vessels.

DATES: Completed application forms should reach the Coast Guard at the address below on or before June 1, 2010.

ADDRESSES: You may request an application form by writing to Commandant (CG-5433), U.S. Coast Guard, 2100 Second Street, SW., Mail Stop 7581, Washington, DC 20593-7581; by calling 202-372-1249; or by faxing 202-372-1917. Send your application in written form to the above street address. This notice and the application form are also available on the Internet at http://www.FishSafe.info.

FOR FURTHER INFORMATION CONTACT: Mr. Jack Kemerer of the Coast Guard by telephone at 202-372-1249, fax 202-372-1917, e-mail: jack.a.kemerer@uscg.mil.

SUPPLEMENTARY INFORMATION: The CFIVSAC is a Federal advisory committee under 5 U.S.C. App. (Pub. L. 92-463). The Coast Guard chartered the CFIVSAC to provide advice on issues related to the safety of commercial fishing industry vessels regulated under Chapter 45 of Title 46, United States Code, which includes uninspected fishing vessels, fish processing vessels, and fish tender vessels. (See 46 U.S.C. 4508.)

The CFIVSAC meets at least once a year. It may also meet for other extraordinary purposes. Its subcommittees may gather throughout the year to prepare for meetings or develop proposals for the committee as a whole to address specific problems.

The Coast Guard will consider applications for five positions that expire or become vacant in October 2010 in the following categories: (a) Commercial Fishing Industry (two positions); (b) Education or Training Professionals related to fishing vessels or personnel qualifications (one position); (c) Underwriters that insure fishing vessels (one position); and (d) General Public (one position).

The CFIVSAC consists of 17 members as follows: (a) Ten members from the commercial fishing industry who reflect a regional and representational balance and have experience in the operation of vessels to which Chapter 45 of Title 46, United States Code applies, or as a crew member or processing line member on an uninspected fish processing vessel; (b) one member representing each of (1) naval architects or marine surveyors; (2) manufacturers of equipment for vessels to which Chapter 45 of Title 46, U.S.C. applies; (3) education or training professionals related to fishing vessels, fish processing vessels, fish tender vessel safety, or personnel qualifications; and (4) underwriters that insure vessels to which Chapter 45 of Title 46, U.S.C. applies; and (c) three members representing the general public including, whenever possible, an independent expert or consultant in maritime safety and a member of a national organization composed of persons representing owners of vessels to which Chapter 45 of Title 46, U.S.C. applies and persons representing the marine insurance industry.

Each member serves for a term of three years. An individual may be appointed to a term as a member more than once. All members serve at their own expense and receive no salary from the Federal Government, although travel reimbursement and per diem may be provided.

In support of the Coast Guard policy on gender and ethic nondiscrimination, we encourage qualified men and women and members of all racial and ethnic groups to apply. The Coast Guard values diversity; all the different characteristics and attributes of persons that enhance the mission of the Coast Guard.

If you are selected as a “non-representative” member, or as a member who represents the general public, you will be appointed and serve as a Special Government Employee (SGE) as defined in section 202(a) of Title 18, United States Code. As a candidate for appointment as a SGE, applicants are required to complete a Confidential Financial Disclosure Report (OGE Form 450). A completed OGE Form 450 is not releasable to the public except under an order issued by a Federal court or as otherwise provided under the Privacy Act (5 U.S.C. 552a). Only the Designated Agency Ethics Official (DAEO) or the DAEO's designate may release a Confidential Financial Disclosure Report.

Dated: March 18, 2010.
F.J. Sturm,
Acting Director of Commercial Regulations and Standards.

[FR Doc. 2010-6694 Filed 3-25-10; 8:45 am]

BILLING CODE 9110-04-P